DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by June 16, 2004.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax (703) 358-2281.

FOR FURTHER INFORMATION CONTACT: Division of Management Authority, telephone (703) 358-2104.

SUPPLEMENTARY INFORMATION:

Endangered Species

The public is invited to comment on the following applications for a permit to conduct certain activities with endangered species. This notice is provided pursuant to section 10(c) of the Endangered Species Act of 1973, as amended (16 U.S.C. 1531, et seq.). Written data, comments, or requests for copies of these complete applications should be submitted to the Director (ADDRESSES above).

Applicant: Peabody Museum of Natural History, New Haven, CT, PRT-084544

The applicant requests a permit to import biological samples from lesser mouse lemur (Microcebus murinus) collected in the wild in Madagascar, for scientific research. This notification covers activities to be conducted by the applicant over a five year period.

Applicant: William H. Zovickian, Dacula, GA, PRT-084430

The applicant requests a permit to import one angulated tortoise (Geochelone yniphora) from the Singapore Zoological Gardens, Singapore, for the purpose of enhancement of the species through captive propagation and scientific research.

Applicant: Los Angeles Zoo, Los Angeles, CA, PRT-079682

The applicant requests a permit to import biological samples from peninsular pronghorn (Antilocapra americana peninsularis) from both captive-born and wild caught specimens in Mexico, for scientific research. This notification covers activities to be conducted by the applicant over a five year period.

Applicant: University of Wisconsin-Madison, Psychology Department, Madison, WI, PRT-082542

The applicant requests a permit to export five captive-born cotton-top tamarin (Saguinus oedipus) to the St. Maarten Zoological and Botanical Gardens, St. Maarten, Netherlands Antilles, for the purpose of enhancement of the species through conservation education.

Marine Mammals

The public is invited to comment on the following applications for a permit to conduct certain activities with marine mammals. The applications were submitted to satisfy requirements of the Marine Mammal Protection Act of 1972, as amended (16 U.S.C. 1361 et seq.), and the regulations governing marine mammals (50 CFR part 18). Written data, comments, or requests for copies of the complete applications or requests for a public hearing on these applications should be submitted to the Director (address above). Anyone requesting a hearing should give specific reasons why a hearing would be appropriate. The holding of such a hearing is at the discretion of the Director.

Applicant: Steven W. Stock, Oneida, WI, PRT-086456

The applicant requests a permit to import a polar bear (Ursus maritimus) sport hunted from the Southern Beaufort Sea polar bear population in Canada for personal use.

Applicant: Douglas R. Scandrol, Pittsburgh, PA, PRT-086589

The applicant requests a permit to import a polar bear (Ursus maritimus) sport hunted from the Viscount Melville Sound polar bear population in Canada for personal use.

Applicant: Leon A. Naccarato, Priest River, ID, PRT-086824

The applicant requests a permit to import a polar bear (Ursus maritimus) sport hunted from the Lancaster Sound polar bear population in Canada for personal use.

Dated: April 30, 2004.
Michael S. Moore,
Senior Permit Biologist, Branch of Permits, Division of Management Authority.

[FR Doc. 04-11084 Filed 5-14-04; 8:45 am]

BILLING CODE 4310-55-P